DEPARTMENT OF COMMERCE

International Trade Administration

[A-533-871]

Finished Carbon Steel Flanges From India: Final Results of Antidumping Duty Administrative Review; 2017-2018

AGENCY: Enforcement and Compliance, International Trade Administration, Department of Commerce.

SUMMARY: The Department of Commerce (Commerce) finds that the producers/exporters subject to this administrative review made sales of finished carbon steel flanges (flanges) from India at less than normal value during the period of review (POR), February 8, 2017 through July 31, 2018.

DATES: Applicable April 17, 2020.

FOR FURTHER INFORMATION CONTACT: Fred Baker, AD/CVD Operations, Office VI, Enforcement and Compliance, International Trade Administration, Department of Commerce, 1401 Constitution Avenue NW, Washington, DC 20230; telephone: (202) 482-2924.

SUPPLEMENTARY INFORMATION:

Background

This administrative review covers 37 producers/exporters of the subject merchandise. Commerce selected two companies, the Norma Group ¹ and R.N. Gupta & Co. Ltd. (Gupta) for individual examination as the mandatory respondents in this administrative review.² On October 29, 2019, Commerce published the Preliminary Results of this administrative review and invited interested parties to comment.³ On December 2, 2019, Norma Group submitted its case brief.⁴ On the same day, Weldbend Corporation and Boltex Manufacturing Co., L.P. (collectively, the petitioners), submitted two case briefs, one related to Norma Group and one related to Gupta.⁵ On December 9, 2019, Norma Group and Gupta each submitted a rebuttal brief.⁶ However, Commerce rejected Gupta's rebuttal brief on February 7, 2020, because it contained untimely submitted factual information.⁷ Gupta submitted a redacted version of its original rebuttal brief on February 10, 2020.⁸ No other party submitted case or rebuttal briefs. On February 13, 2020, we extended the deadline for these final results, until April 10, 2020.⁹

¹ The Norma Group consists of the following companies: Norma (India) Limited (Norma), USK Exports Private Limited, Uma Shanker Khandelwal & Co., and Bansidhar Chiranjilal. The agency collapsed these companies for purposes of respondent selection because they were collapsed in a prior segment of this proceeding (i.e., investigation). See Finished Carbon Steel Flanges from India: Preliminary Determination of Sales at Less Than Fair Value and Postponement of Final Determination, 82 FR 9719 (February 8, 2017), and accompanying Preliminary Determination Memorandum at 4 (collectively, Preliminary Determination); unchanged in Finished Carbon Steel Flanges from India: Final Determination of Sales at Less Than Fair Value, 82 FR 29483 (June 29, 2017) (Final Determination). Norma Group presented evidence that the factual basis on which Commerce made its prior determination has not changed. See Norma Group's March 1, 2019 Supplemental Questionnaire Response (Norma Group March 1, 2019 SQR) at 12-20. Accordingly, we continue to collapse and treat these companies as a single entity for purposes of this proceeding.

² See Memorandum, “Antidumping Duty Administrative Review of Finished Carbon Steel Flanges from India: Respondent Selection,” dated November 9, 2018.

³ See Finished Carbon Steel Flanges from India: Preliminary Results of Antidumping Duty Administrative Review; 2017-2018, 84 FR 57848 (October 29, 2019), and accompanying Preliminary Decision Memorandum (collectively, the Preliminary Results).

⁴ See Norma Group's Case Brief, “Finished Carbon Steel Flanges from India: Norma's Comments on the Preliminary Results,” dated December 2, 2019.

⁵ See Petitioners' Case Briefs, “Finished Carbon Steel Flanges from India: Case Brief—Weldbend Corporation and Boltex Manufacturing Co., L.P.,” dated December 2, 2019.

⁶ See Norma Group's Rebuttal Brief, “Finished Carbon Steel Flanges from India: Norma's Rebuttal Comments,” dated December 9, 2019.

⁷ See Commerce Letter, “Finished Carbon Steel Flanges from India: Rejection of Rebuttal Brief,” dated February 7, 2020.

⁸ See Gupta Rebuttal Brief, “Finished Carbon Steel Flanges from India: Redacted Rebuttal Brief of R.N. Gupta & Company Limited,” dated February 10, 2020.

⁹ See Memorandum, “Finished Carbon Steel Flanges from India: Extension of Deadline for Final Results of Antidumping Duty Administrative Review,” dated February 13, 2020.

Scope of the Order ¹⁰

¹⁰ See Finished Carbon Steel Flanges from India and Italy: Antidumping Duty Orders, 82 FR 40136 (August 24, 2017) (the Order).

The scope of the Order covers finished carbon steel flanges. Finished carbon steel flanges are currently classified under subheadings 7307.91.5010 and 7307.91.5050 of the Harmonized Tariff Schedule of the United States (HTSUS). They may also be entered under HTSUS subheadings 7307.91.5030 and 7307.91.5070. While HTSUS subheadings are provided for convenience and customs purposes, the written description of the scope of this Order is dispositive. A full description of the scope of the Order is contained in the Issues and Decision Memorandum.¹¹

¹¹ See Memorandum, “Issues and Decisions Memorandum for the Final Results of Administrative Review: Finished Carbon Steel Flanges from India; 2017-2018,” dated concurrently with, and hereby adopted by, this notice (Issues and Decisions Memorandum).

Analysis of Comments Received

All issues raised by the parties in their case and rebuttal briefs are listed in the appendix to this notice and addressed in the Issues and Decision Memorandum. The Issues and Decision Memorandum is a public document and is on file electronically via Enforcement and Compliance's Antidumping and Countervailing Duty Centralized Electronic Service System (ACCESS). ACCESS is available to registered users at https://access.trade.gov and is available to all parties in the Central Records Unit, Room B8024 of the main Commerce building. In addition, a complete version of the Issues and Decision Memorandum can be accessed directly on the internet at http://enforcement.trade.gov/frn/index.html. The signed Issues and Decision Memorandum and the electronic version of the Issues and Decision Memorandum are identical in content.

Changes Since the Preliminary Results

Based on our analysis of the comments received, and for the reasons explained in the Issues and Decision Memorandum, Commerce made certain changes to the preliminary weighted-average dumping margin for the Norma Group, and the companies not selected for individual examination in this administrative review.

Final Results of Administrative Review

For these final results, we determine that the following weighted-average dumping margins exist for the period February 8, 2017 through July 31, 2018:

Producers/exporters | Weighted-average dumping margin (percent)
R.N. Gupta & Co., Ltd | 1.20
Norma (India) Limited/USK Exports Private Limited/Uma Shanker Khandelwal & Co./Bansidhar Chiranjilal ¹² | 0.00
Adinath International | 1.20
Allena Group | 1.20
Alloyed Steel | 1.20
Bebitz Flanges Works Private Limited | 1.20
C.D. Industries | 1.20
CHW Forge Pvt. Ltd ¹³ | 1.20
CHW Forge | 1.20
Citizen Metal Depot | 1.20
Corum Flange | 1.20
DN Forge Industries | 1.20
Echjay Forgings Limited | 1.20
Falcon Valves and Flanges Private Limited | 1.20
Heubach International | 1.20
Hindon Forge Pvt. Ltd | 1.20
Jai Auto Private Limited | 1.20
Kinnari Steel Corporation | 1.20
M F Rings and Bearing Races Ltd | 1.20
Mascot Metal Manufactures | 1.20
OM Exports | 1.20
Punjab Steel Works (PSW) | 1.20
R. D. Forge | 1.20
Raaj Sagar Steels | 1.20
Ravi Ratan Metal Industries | 1.20
Rolex Fittings India Pvt. Ltd | 1.20
Rollwell Forge Pvt. Ltd | 1.20
SHM (ShinHeung Machinery) | 1.20
Siddhagiri Metal & Tubes | 1.20
Sizer India | 1.20
Steel Shape India | 1.20
Sudhir Forgings Pvt. Ltd | 1.20
Tirupati Forge | 1.20
Umashanker Khandelwal Forging Limited | 1.20

Rate for Non-Selected Respondents

For the rate for non-selected respondents in an administrative review, generally, Commerce looks to section 735(c)(5) of the Tariff Act of 1930, as amended (the Act), which provides instructions for calculating the all-others rate in a market economy investigation. Under section 735(c)(5)(A) of the Act, the all-others rate is normally “an amount equal to the weighted-average of the estimated weighted-average dumping margins established for exporters and producers individually investigated, excluding any zero or de minimis margins, and any margins determined entirely {on the basis of facts available}.” In this segment of the proceeding, we calculated a weighted-average dumping margin for Gupta that was not zero, de minimis, or based on facts available. Accordingly, we applied the weighted-average dumping margin calculated for Gupta to the non-individually examined respondents.

¹² Commerce previously collapsed these companies for purposes of respondent selection, because they were collapsed in a prior segment of this proceeding (i.e., investigation). See Preliminary Determination); unchanged in Final Determination. Norma Group presented evidence that the factual basis on which Commerce made its prior determination has not changed. See Norma Group March 1, 2019 SQR at 12-20. Accordingly, we continue to collapse and treat these companies as a single entity for purposes of this proceeding.

¹³ The name of this company was incorrected spelled “CHQ Forge Pvt. Ltd.” in the initiation notice. See Petitioners' Letter, “Finished Carbon Steel Flanges from India: Request for Administrative Review,” dated August 31, 2018; and Initiation of Antidumping and Countervailing Duty Administrative Reviews, 83 FR 50077 (October 4, 2018).

Disclosure of Calculations

We intend to disclose the calculations performed for these final results to parties in this proceeding within five days of the date of publication of this notice, in accordance with 19 CFR 351.224(b).

Assessment Rates

Pursuant to section 751(a)(2)(C) of the Act and 19 CFR 351.212(b)(1), Commerce shall determine and U.S. Customs and Border Protection (CBP) shall assess antidumping duties on all appropriate entries. For Gupta, because its weighted-average dumping margin is not zero or de minimis (i.e., less than 0.5 percent), Commerce has calculated importer-specific antidumping duty assessment rates. We calculated importer-specific ad valorem antidumping duty assessment rates by aggregating the total amount of dumping calculated for the examined sales of each importer and dividing each of these amounts by the total entered value associated with those sales. We will instruct CBP to assess antidumping duties on all appropriate entries covered by this review where an importer-specific assessment rate is not zero or de minimis. Pursuant to 19 CFR 351.106(c)(2), we will instruct CBP to liquidate without regard to antidumping duties any entries for which the importer-specific assessment rate is zero or de minimis.

For Norma, we will instruct CBP to liquidate its entries during the POR imported by the importers identified in its questionnaire responses without regard to antidumping duties because its weighted-average dumping margin in these final results is zero.¹⁴

¹⁴ See Antidumping Proceeding: Calculation of the Weighted-Average Dumping Margin and Assessment Rate in Certain Antidumping Duty Proceedings; Final Modification, 77 FR 8103, 8103 (February 14, 2012).

For companies that were not selected for individual examination, we will instruct CBP to liquidate unreviewed entries based on the methodology described in the “Rate for Non-Selected Respondents” section, above.

Consistent with Commerce's assessment practice, for entries of subject merchandise during the POR produced by any company upon which we initiated an administrative review, for which they did not know that the merchandise was destined for the United States, we will instruct CBP to liquidate unreviewed entries at the all-others rate if there is no rate for the intermediate company(ies) involved in the transaction.¹⁵

¹⁵ For a full discussion of this practice, see Antidumping and Countervailing Duty Proceedings: Assessment of Antidumping Duties, 68 FR 23954 (May 6, 2003).

We intend to issue instructions to CBP 15 days after publication of the final results of this administrative review.

Cash Deposit Requirements

The following deposit requirements for estimated antidumping duties will be effective upon publication of the notice of these final results of review for all shipments of flanges from India entered, or withdrawn from warehouse, for consumption on or after the date of publication as provided by section 751(a)(2)(C) of the Act: (1) The cash deposit rates for the reviewed companies will be the rates established in these final results of review, except if the rate is less than 0.50 percent and, therefore, de minimis within the meaning of 19 CFR 351.106(c)(1), in which case the cash deposit rate will be zero; (2) for merchandise exported by producers or exporters not covered in this review but covered in a prior segment of the proceeding, the cash deposit rate will continue to be the company-specific rate published for the most recent period; (3) if the exporter is not a firm covered in this review, a prior review, or the original investigation, but the producer is, then the cash deposit rate will be the rate established for the most recent period for the producer of the subject merchandise; (4) the cash deposit rate for all other producers or exporters will continue to be 8.91 percent,¹⁶ the all-others rate established in the less-than-fair-value investigation. These cash deposit requirements shall remain in effect until further notice.

¹⁶ See Order, 82 FR at 40138 (August 24, 2017).

Notification to Importers

This notice serves as a final reminder to importers of their responsibility under 19 CFR 351.402(f)(2) to file a certificate regarding the reimbursement of antidumping duties and/or countervailing duties prior to liquidation of the relevant entries during this POR. Failure to comply with this requirement could result in Commerce's presumption that reimbursement of antidumping duties and/or countervailing duties occurred and the subsequent assessment of doubled antidumping duties.

Administrative Protective Order (APO)

This notice also serves as the only reminder to parties subject to APO of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing notice of these final results in accordance with sections 751(a) and 777(i)(1) of the Act. Note that Commerce has temporarily modified certain of its requirements for serving documents containing business proprietary information, until May 19, 2020, unless extended.¹⁷

¹⁷ See Temporary Rule Modifying AD/CVD Service Requirements Due to COVID-19, 85 FR 17006 (March 26, 2020).

Dated: April 10, 2020.
Jeffrey I. Kessler,
Assistant Secretaryfor Enforcement and Compliance.

Appendix

List of Topics Discussed in the Issues and Decision Memorandum

I. Summary

II. Background

III. Scope of the Order

IV. Changes from the Preliminary Results

V. Discussion of the Issues

Comment 1: Gupta's Scrap Offset

Comment 2: Gupta's Interest Income Offset

Comment 3: Operating Expenses of Bansidhar Chiranjilal

Comment 4: Ministerial Error

VI. Recommendation

[FR Doc. 2020-08137 Filed 4-16-20; 8:45 am]

BILLING CODE 3510-DS-P